DEPARTMENT OF COMMERCE

International Trade Administration

[C-570-955]

Certain Magnesia Carbon Bricks From the People's Republic of China: Preliminary Results of Countervailing Duty Administrative Review; 2014

AGENCY: Enforcement and Compliance, International Trade Administration, U.S. Department of Commerce.

SUMMARY: The Department of Commerce (the Department) is conducting an administrative review of the countervailing duty (CVD) order on certain chemically-bonded magnesia carbon bricks from the People's Republic of China (PRC). The period of review (POR) is January 1, 2014, through December 31, 2014. We preliminarily find no evidence of any reviewable entries, shipments, or sales of subject merchandise to the United States during the POR by any of the companies subject to this review, and are therefore issuing a preliminary no shipments determination.

DATES: Effective September 13, 2016.

FOR FURTHER INFORMATION CONTACT: Gene Calvert, AD/CVD Operations, Office VII, Enforcement and Compliance, International Trade Administration, U.S. Department of Commerce, 14th Street and Constitution Avenue NW., Washington, DC 20230; telephone: (202) 482-3586.

SUPPLEMENTARY INFORMATION:

Scope of the Order

The scope of the order includes certain chemically-bonded magnesia carbon bricks. Certain chemically-bonded magnesia carbon bricks that are the subject of this order are currently classifiable under the following subheadings of the Harmonized Tariff Schedule of the United States (HTSUS): 6902.10.1000, 6902.10.5000, 66815.91.0000, 6815.99.2000, and 6815.99.4000. The HTSUS subheadings are provided for convenience and customs purposes. A full description of the scope of the order is contained in the Preliminary Decision Memorandum, which is hereby adopted by this notice.¹ The written description is dispositive.

¹ For a full description of the scope of the order, see the Department Memorandum, “Decision Memorandum for the Preliminary Results of the Countervailing Duty Administrative Review of Certain Magnesia Carbon Bricks from the People's Republic of China; 2014,” (dated concurrently with this notice) (Preliminary Decision Memorandum).

Methodology

The Department is conducting this review in accordance with section 751(a)(1)(A) of the Tariff Act of 1930, as amended (the Act). The Preliminary Decision Memorandum contains a full description of the methodology underlying our conclusions, and is a public document on file electronically via Enforcement and Compliance's Antidumping and Countervailing Duty Centralized Electronic Service System (ACCESS). ACCESS is available to registered users at https://access.trade.gov and in the Central Records Unit, room B8024 of the main Department of Commerce building. In addition, a complete version of the Preliminary Decision Memorandum can be accessed directly on the Internet at http://enforcement.trade.gov/frn/index.html. The signed Preliminary Decision Memorandum is identical in content.

Preliminary Determination of No Shipments

Based on information submitted after the initiation of this administrative review, and due to the fact that we have not received any information from U.S. Customs and Border Protection (CBP) indicating that the companies subject to this review had reviewable entries to the United States during the POR,² the Department has preliminarily determined that the record evidence indicates that no company subject to this review had reviewable entries during the POR. As is our practice, the Department finds that it is not appropriate to rescind this review, but, rather, to complete this review and to issue appropriate instructions to CBP based on the final results of this review.³

² See the Preliminary Decision Memorandum for a list of companies subject to this review.

³ See, e.g., Certain Frozen Warmwater Shrimp From Thailand: Preliminary Results of Antidumping Duty Administrative Review and Intent to Revoke the Order (in Part); 2011-2012, 78 FR 15686 (March 12, 2013) and accompanying Decision Memorandum at 7-8, unchanged in Certain Frozen Warmwater Shrimp From Thailand: Final Results of Antidumping Duty Administrative Review, Partial Rescission of Review, and Revocation of Order (in Part); 2011-2012, 78 FR 42497 (July 16, 2013) at the section, “Rescission, in Part;” see also Silicomanganese From India: Preliminary Results of Antidumping Duty Administrative Review; 2014-2015, 81 FR 28826 (May 10, 2016) and accompanying Decision Memorandum at 3.

Assessment Rates

We intend to issue assessment instructions to CBP 15 days after the publication of the final results of this review.

Disclosure and Public Comment

Pursuant to 19 CFR 351.309(c), interested parties may submit case briefs no later than 30 days after the publication of this notice.⁴ Rebuttal briefs, limited to issues raised in the case briefs, may be filed not later than five days after the date for filing case briefs.⁵ Parties who submit case or rebuttal briefs in this proceeding are encouraged to submit with each argument: (1) A statement of the issue; (2) a brief summary of the argument; and (3) a table of authorities.⁶ Case and rebuttal briefs should be filed through ACCESS.⁷ In order to be properly filed, ACCESS must successfully receive an electronically-filed document in its entirety by 5 p.m. Eastern Time on the date on which it is due.

⁴ See 19 CFR 351.309(c)(ii).

⁵ See 19 CFR 351.309(d).

⁶ See 19 CFR 351.309(c)(2) and (d)(2).

⁷ See 19 CFR 351.303.

Pursuant to 19 CFR 351.310(c), interested parties who wish to request a hearing, or wish to participate in a hearing if one is requested, must submit a written request to the Assistant Secretary for Enforcement and Compliance, filed electronically through ACCESS, within 30 days after the date of publication of this notice.⁸ Requests should contain: (1) The party's name, address, and telephone number; (2) the number of participants; and (3) a list of issues to be discussed. Issues raised in the hearing will be limited to those raised in the respective case briefs.

⁸ See 19 CFR 351.310(c).

The Department intends to issue the final results of this administrative review, including the results of its analysis of the issues raised in any briefs, not later than 120 days after the date of publication of this notice, unless extended, pursuant to section 751(a)(3)(A) of the Act.

Notification to Importers

This notice serves as a preliminary reminder to importers of their responsibility under 19 CFR 351.402(f)(2) to file a certificate regarding the reimbursement of countervailing duties prior to liquidation of the relevant entries during this review period. Failure to comply with this requirement could result in the Secretary's presumption that reimbursement of countervailing duties occurred and the subsequent assessment of double countervailing duties.

Notice to Interested Parties

We are issuing and publishing these results in accordance with sections 751(a)(1) and 777(1) of the Act, and 19 CFR 351.221(b)(4).

Dated: September 6, 2016.
Christian Marsh,
Deputy Assistant Secretary for Antidumping and Countervailing Duty Operations.

[FR Doc. 2016-22001 Filed 9-12-16; 8:45 am]

BILLING CODE 3510-DS-P